DEPARTMENT OF VETERANS AFFAIRS

Increase in Maximum Tuition and Fee Amounts Payable Under the Post-9/11 GI Bill

AGENCY: Department of Veterans Affairs.

ACTION: Notice.

SUMMARY: The purpose of this notice is to inform the public of the increase in the Post-9/11 GI Bill maximum tuition and fee amounts payable and the increase in the amount used to determine an individual's entitlement charge for reimbursement of a licensing, certification, or national test for the 2024-2025 academic year (AY), effective August 1, 2024 through July 31, 2025.

FOR FURTHER INFORMATION CONTACT: Jamak Clifton, Management and Program Analyst, Education Service (225), Veterans Benefits Administration, Department of Veterans Affairs, 810 Vermont Avenue NW, Washington, DC 20420, Telephone: 202-461-9800 (this is not a toll-free number).

SUPPLEMENTARY INFORMATION: For AY 2024-2025, the Post-9/11 GI Bill authorizes the Department of Veterans Affairs (VA) to pay the actual net cost of tuition and fees not to exceed the in-state amounts for students pursuing a program of education at public institutions of higher learning; $28,937.09 for students pursuing a program of education at private and foreign institutions of higher learning; $28,937.09 for students pursuing a program of education at non-degree-granting institutions; $16,535.46 for students training at vocational flight schools; and $14,055.13 for students training at correspondence schools. See 38 U.S.C. 3313.

In addition, the entitlement charge for individuals receiving reimbursement of the costs associated with taking a licensing, certification, or national test is pro-rated based on the reimbursed amount of the test fee relative to the rate of $2,414.18 for 1 month. See 38 U.S.C. 3315(c), 3315A(c). The maximum reimbursable amount for licensing and certification tests is $2,000. See 38 U.S.C. 3315(b). There is no maximum reimbursable amount for national tests. Also, the entitlement charge for individuals receiving reimbursement of the costs associated with taking a preparatory course for licensure, certification, or national tests is pro-rated based on the reimbursed amount of the covered preparatory course fee relative to the rate of $2,348.36 for 1 month. See 38 U.S.C. 3315B. There is no maximum reimbursable amount for covered preparatory courses. Although the statutory language requires VA to charge entitlement based on the “actual amount of the fee charged” for the licensure, certification, or national test or the covered preparatory course, to avoid an inequitable outcome for students, VA's practice is to charge entitlement based on the actual reimbursed amount of the test or course fee.

Sections 3313, 3315, 3315A, and 3315B direct VA to increase the maximum tuition and fee payments and entitlement-charge amounts each academic year (beginning on August 1st) based on the most recent percentage increase determined under 38 U.S.C. 3015(h). The most recent percentage increase determined under 38 U.S.C. 3015(h) is 6.7%, which was effective on October 1, 2023.

The maximum tuition and fee payments and entitlement charge amounts for training pursued under the Post-9/11 GI Bill beginning after July 31, 2024 and before August 1, 2025 are listed below. VA's calculations for AY 2024-2025 are based on the 6.7% increase.

2024-2025 Academic Year
Type of school | Actual net cost of tuition and fees not to exceed
Post-9/11 GI Bill Maximum Tuition and Fee Amounts
Public | In-State/Resident Charges.
Private/Foreign | $28,937.09.
Non-Degree Granting | $28,937.09.
Vocational Flight | $16,535.46.
Correspondence | $14,055.13.
Post-9/11 Entitlement Charge Amount for Tests
Licensing and Certification Tests | Entitlement will be pro-rated based on the reimbursed amount of the test fee relative to the rate of $2,414.18 for 1 month. The maximum reimbursable amount for licensing and certification tests is $2,000.
National Tests | Entitlement will be pro-rated based on the reimbursed amount of the test fee relative to the rate of $2,414.18 for 1 month. There is no maximum reimbursable amount for national tests.
Preparatory Courses for Licensure, Certification, or National Tests | Entitlement will be pro-rated based on the reimbursed amount of the covered preparatory course fee relative to the rate of $2,348.36 for 1 month.

Signing Authority

Denis McDonough, Secretary of Veterans Affairs, approved and signed this document on May 20, 2024, and authorized the undersigned to sign and submit the document to the Office of the Federal Register for publication electronically as an official document of the Department of Veterans Affairs.

Luvenia Potts,
Regulation Development Coordinator, Office of Regulation Policy & Management, Office of General Counsel, Department of Veterans Affairs.

[FR Doc. 2024-14525 Filed 7-1-24; 8:45 am]

BILLING CODE 8320-01-P